NUCLEAR REGULATORY COMMISSION

10 CFR Part 71

Regulations for the Safe Transport of Radioactive Material; Public Meeting

AGENCY: U.S. Nuclear Regulatory Commission.

ACTION: Notice of public meeting.

SUMMARY: The U.S. Nuclear Regulatory Commission (NRC) and the U.S. Department of Transportation (DOT) are jointly seeking public views on U.S. DOT positions on the proposed changes to the requirements of the 1996 Edition for the Safe Transport of Radioactive Material (TS-R-1). The changes will likely necessitate domestic compatibility rulemakings by both NRC and DOT. To discuss U.S. DOT positions on the proposed changes, DOT is convening a public meeting as the U.S. competent authority for transportation matters before IAEA. Recognizing DOT's role, in lieu of separate meeting, NRC will participate at the meeting.

DATES: The public meeting will be held on November 5, 2003, from 9:30 a.m. to 11 a.m.

ADDRESSES: The meeting will be conducted at the Department of Transportation, Nassif Building, 400 Seventh Street, SW., Room 6244, Washington, DC, 20590-0001 in room 8236-8240.

FOR FURTHER INFORMATION CONTACT: John Cook, Office of Nuclear Material Safety and Safeguards, U.S. Nuclear Regulatory Commission, Washington, DC 20555-0001, telephone: (301) 415-8521; e-mail: jrc1@nrc.gov.

SUPPLEMENTARY INFORMATION:

Background

On May 9, 2003, the International Atomic Energy Agency (IAEA) posted 63 proposed changes to the requirements of the 1996 Edition of the Agency's Regulations for the Safe Transport of Radioactive Material (TS-R-1) on the World Wide Web [see http://hazmat.dot.gov/files/IAEA_TS-R-1_rev_prop.pdf]. IAEA's revision process calls for Member States and International Organizations to have an opportunity for a period of 120 days to provide comments. The objective is publication of revised regulations in 2005, nominally to become effective worldwide in 2007.

The IAEA periodically revises its transportation regulations (referred to as TS-R-1) to reflect new information and accumulated experience. In 2000, IAEA requested proposals for change to ultimately result in a 2005 edition of TS-R-1. Over 200 proposals were submitted to IAEA to change the regulations, guidance material, or identify problems for further work. These were later narrowed down to 63 proposals that were accepted for comment.

Because some of the proposed changes being considered for the 2005 edition of TS-R-1 would, if approved, result in a need to consider a revision of U.S. transport regulations (49 CFR 100-185 and 10 CFR part 71), the DOT and the NRC are jointly seeking public views on the U.S. DOT positions on the proposed changes. This information will assist DOT and NRC in having a full range of views as the proposals are developed. Note that future domestic rulemakings, if necessary, will continue to follow established rulemaking procedures, including the opportunity to formally comment on proposed rules.

The DOT is the U.S. competent authority before IAEA for radioactive material transportation matters. On July 22, 2003, DOT held a public meeting to obtain public comment on the proposed changes (as was announced in the Federal Register on June 10, 2003, 68 FR 34695), and accepted written comments through August 8, 2003. Rather than convene a separate public meeting, as co-regulators for U.S. radioactive material transportation matters, NRC announced on June 26, 2003 (68 FR 3796), that it would participate at DOT's public meeting.

DOT has since considered public comments received and forwarded U.S. DOT positions on the proposed changes to IAEA. A summary of the U.S. DOT positions may be downloaded at http://hazmat.dot.gov/files/IAEA_TS-R-1_dot_postition.pdf. On October 14, 2003, DOT published a notice in the Federal Register announcing that DOT will conduct a public meeting to discuss U.S. DOT positions on the proposed changes on November 5, 2003, at DOT Headquarters. NRC staff will be available at that meeting to respond to any technical questions concerning the positions' potential impacts to Type B or fissile materials regulated in 10 CFR part 71.

Dated at Rockville, Maryland, this 20th day of October 2003.
For the Nuclear Regulatory Commission.
David W. Pstrak,
Transportation and Storage Project Manager, Office of Nuclear Material Safety and Safeguards.

[FR Doc. 03-26892 Filed 10-23-03; 8:45 am]

BILLING CODE 7590-01-P